DEPARTMENT OF ENERGY

Federal Energy Regulatory Commission

Notice of Commission Staff Attendance

The Federal Energy Regulatory Commission (Commission) hereby gives notice that members of the Commission's staff may attend the following meeting related to the transmission planning activities of the Midcontinent Independent System Operator, Inc. (MISO):

MISO Planning Advisory Committee, August 19, 2015, 9 a.m.-4:00 p.m. (EST).

The above-referenced meeting will be held at: MISO Headquarters, 720 City Center Drive, Carmel, IN 46032.

Further information may be found at www.misoenergy.org.

The discussions at the meeting described above may address matters at issue in the following proceedings:

Docket Nos. ER13-1944, et al., PJM Interconnection, LLC.

Docket No. ER14-1174, Southwest Power Pool, Inc.

Docket No. ER14-1736, Midcontinent Independent System Operator, Inc.

Docket No. ER14-2445, Midcontinent Independent System Operator, Inc.

Docket No. ER13-1864, Southwest Power Pool, Inc.

Docket No. EL14-21, Southwest Power Pool, Inc. v. Midcontinent Independent System Operator, Inc.

Docket No. EL14-30, Midcontinent Independent System Operator, Inc. v. Southwest Power Pool, Inc.

Docket No. EL11-34, Midwest Independent Transmission System Operator, Inc.

Docket No. ER11-1844, Midwest Independent Transmission System Operator, Inc.

Docket No. EL13-88, Northern Indiana Public Service Company v. Midcontinent Independent System Operator, Inc. and PJM Interconnection, L.L.C.

Docket Nos. ER13-1923, et al., Midcontinent Independent System Operator, Inc.

Docket Nos. ER13-1937, et al., Southwest Power Pool, Inc.

For more information, contact Chris Miller, Office of Energy Market Regulation, Federal Energy Regulatory Commission at (317) 249-5936 or christopher.miller@ferc.gov; or Jason Strong, Office of Energy Market Regulation, Federal Energy Regulatory Commission at (202) 502-6124 or jason.strong@ferc.gov.

Dated: August 5, 2015.
Nathaniel J. Davis, Sr.,
Deputy Secretary.

[FR Doc. 2015-19691 Filed 8-10-15; 8:45 am]

BILLING CODE 6717-01-P